DEPARTMENT OF HEALTH AND HUMAN SERVICES

Centers for Disease Control and Prevention

[Docket Number NIOSH-187]

Proposed Enhancements to Occupational Health Surveillance Data Collection Through the Healthcare Personnel Safety (HPS) Component of the National Healthcare Safety Network (NHSN); Correction

A notice of public meeting and availability for public comment was published in the Federal Register, September 21, 2009, (74 FR 48081). This notice is corrected as follows:

On page 48081, third column: The heading “Place” the name of the hotel has been changed to the Doubletree Hotel.

Dated: October 14, 2009.
Tanja Popovic,
Chief Science Officer, Centers for Disease Control and Prevention.

[FR Doc. E9-25536 Filed 10-22-09; 8:45 am]

BILLING CODE 4163-19-P